COMMITTEE FOR PURCHASE FROM PEOPLE WHO ARE BLIND OR SEVERELY DISABLED

Procurement List Additions

AGENCY: Committee for Purchase from People Who Are Blind or Severely Disabled.

ACTION: Additions to Procurement List.

SUMMARY: This action adds to the Procurement List products and services to be furnished by nonprofit agencies employing persons who are blind or have other severe disabilities.

EFFECTIVE DATE: October 27, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On June 7, July 5, July 19, and August 2, 2002, the Committee for Purchase From People Who Are Blind or Severely Disabled published notice (67 FR 39337, 44808, 47508, and 50416) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Handle Assembly, 3895-01-135-2538.

NPA: Knox County ARC, Knoxville, Tennessee.

Contract Activity: Defense Supply Center Philadelphia, Philadelphia, Pennsylvania.

Product/NSN: Case, Crash Rescue Kit, 4210-00-NSH-0001.

NPA: Development Workshop, Inc., Idaho Falls, Idaho.

Contract Activity: Bureau of Land Management, NIFS, Boise, Idaho.

Product/NSN: Junior Wooden Kitchen Set, M.R. 808.

NPA: Winston-Salem Industries for the Blind, Winston-Salem, North Carolina.

Contract Activity: Defense Commissary Agency (DeCA), Ft. Lee, Virginia.

Services

Service Type/Location: Custodial Service, Basewide, Schriever Air Force Base, Colorado.

NPA: Professional Contract Services, Inc., Austin, Texas.

Contract Activity: USAF, 50 CONS/LGCZW, Schriever Air Force Base, Colorado.

Service Type/Location: Janitorial & Related Services, U.S. Border Patrol Station, Air Operations, Yuma, Arizona, U.S. Border Patrol Station, Maintenance Facility, Yuma, Arizona, U.S. Border Patrol Station, Station Office, Yuma, Arizona, U.S. Border Patrol Station, Traffic Check Point, Highway #78, Arizona, U.S. Border Patrol Station, Traffic Check Point, Highway #95, Arizona, U.S. Border Patrol Station, Traffic Check Point, Interstate 8, Arizona, U.S. Border Patrol Station, Wellton Office, Wellton, Arizona, U.S. Border Patrol Station Blythe Office (Janitorial and Grounds Maintenance), Blythe, California.

NPA: Yuma WORC Center, Inc., Yuma, Arizona.

Contract Activity: Immigration and Naturalization Service, DOJ.

Service Type/Location: Mailroom Support Services, BLM—Arizona State Office, Phoenix, Arizona.

NPA: The Centers for Habilitation/TCH, Tempe, Arizona.

Contract Activity: Bureau of Land Management—Arizona, Phoenix, Arizona.

Service Type/Location: Mess Attendant, Andersen Air Force Base, Guam.

NPA: Able Industries of the Pacific, Tamuning, Guam.

Contract Activity: USAF, 36th CONS/LGCD, Andersen Air Force Base, Guam.

This action does not affect current contracts awarded prior to the effective date of this addition or options that may be exercised under those contracts.

Sheryl D. Kennerly,
Director, Information Management.

[FR Doc. 02-24631 Filed 9-26-02; 8:45 am]

BILLING CODE 6353-01-P